NUCLEAR REGULATORY COMMISSION

[Docket No. 50-133; NRC-2012-0288]

Environmental Assessment and Finding of No Significant Impact Related to Exemption From the Implementation Deadline for Certain New Emergency Preparedness Regulations for the Humboldt Bay Power Plant, Unit No. 3, License DPR-007, Eureka, CA

AGENCY: Nuclear Regulatory Commission.

ACTION: Environmental assessment and finding of no significant impact; issuance.

FOR FURTHER INFORMATION CONTACT: John Hickman, Division of Waste Management and Environmental Protection, Office of Federal and State Materials and Environmental Management Programs; U.S. Nuclear Regulatory Commission, Mail Stop: T8F5, Washington, DC 20555-00001; telephone: 301-415-3017; email: John.Hickman@nrc.gov.

SUPPLEMENTARY INFORMATION:

I. Introduction

The U.S. Nuclear Regulatory Commission (NRC) is considering a request dated June 19, 2012, by Pacific Gas and Electric Company (PG&E, the licensee) for a schedular exemption which would extend the date for implementing portions of the Final Rule for Enhancements to Emergency Preparedness Regulations (Final Rule) from June 20, 2012 to September 20, 2012.

This Environmental Assessment (EA) has been developed in accordance with the requirements of section 51.21 of Title 10 of the Code of Federal Regulations (10 CFR).

II. Environmental Assessment

Identification of Proposed Action

On July 2, 1976, Humboldt Bay Power Plant (HBPP) Unit 3 was shut down for annual refueling and to conduct seismic modifications. The unit was never restarted. In 1983, updated economic analyses indicated that restarting Unit 3 would probably not be cost-effective, and in June 1983, PG&E announced its intention to decommission the unit. On July 16, 1985, the NRC issued Amendment No. 19 to the HBPP Unit 3 Operating License to change the status to possess-but-not-operate (Agencywide Documents Access and Management System (ADAMS) Accession No. ML8507260045). In December of 2008, the transfer of spent fuel from the fuel storage pool to the dry-cask Independent Spent Fuel Storage Installation (ISFSI) was completed, and the decontamination and dismantlement phase of HBPP Unit 3 decommissioning commenced. Active decommissioning is currently underway.

The NRC issued the Final Rule in the Federal Register on November 23, 2011 (76 FR 72560). The Final Rule amends certain emergency preparedness (EP) requirements in the regulations. The amended requirements enhance the ability of licensees in preparing to take and taking certain EP and protective measures in the event of a radiological emergency; address, in part, security issues identified after the terrorist events of September 11, 2001; clarify regulations to effect consistent emergency plan implementation among licensees; and modify certain EP requirements to be more effective and efficient. Certain portions of the Final Rule are required to be implemented by June 20, 2012, while other portions of the Final Rule have later implementation dates. The PG&E is requesting the schedular exemption to allow sufficient time to evaluate the Final Rule and to implement provisions, as necessary. The proposed exemption would provide only temporary relief from the applicable regulation. Specifically, PG&E requests exemptions from meeting the implementation deadline for the following revised requirements:

For Security-Related Emergency Plan Issues:

Emergency Action Levels for Hostile Action (10 CFR Part 50, App. E, IV.B.1.)

Emergency Response Organization Augmentation at Alternate Facility—capability for staging emergency organization personnel at an alternate facility and the capability for communications with the control room and plant security (10 CFR Part 50, App. E, IV.E.8.d.)

Protection for Onsite Personnel (10 CFR Part 50, App. E, IV.I)

For Non-Security Related Issues:

Emergency Declaration Timeliness (10 CFR Part 50, App. E, IV.C.2.)

Emergency Operations Facility—Performance Based Approach (10 CFR Part 50, App. E, IV.E.8.a.-c.)

Need for Proposed Action

The PG&E asserts that the Final Rule does not provide clear direction for defueled, non-operating facilities such as HBPP, and it does not include ISFSI license emergency plans. Therefore, PG&E is still evaluating the applicability of the Final Rule to HBPP.

Environmental Impacts of the Proposed Action

Due to HBPP being permanently shut down (with spent fuel relocated to the ISFSI) and the necessary 10 CFR Part 20 required radiological controls in place to limit doses, there are no postulated accidents for HBPP that are considered credible that could result in the release of radioactive materials to the environment in quantities that would require the implementation of protective actions for the general public. There are also no postulated accidents for the ISFSI that could result in the release of radioactive materials to the environment in quantities that would require the implementation of protective actions for the general public. Therefore, because the current Humboldt Bay site emergency program provides adequate radiological protection for the public, the delayed implementation of the five Final Rule requirements identified above presents no potential increase in release of radioactive materials to the environment in quantities that would require the implementation of protective actions for the general public.

Because HBPP is permanently defueled and the spent fuel is stored in the onsite ISFSI, the NRC has determined that the plant site poses a significantly reduced risk to public health and safety from design basis accidents or credible beyond design basis accidents. (“Emergency Planning Licensing Requirements for Independent Spent Fuel Storage Facilities (ISFSI) and Monitored Retrievable Storage Facilities (MRS)” (60 FR 32430, 32431; June 22, 1995)) The PG&E has stated that accidents cannot result in radioactive releases which exceed the EPA's protective action guidelines at the site boundary. Granting the proposed scheduler exemption would not increase the probability or consequences of accidents, no changes are being made in the types or quantities of effluents that may be released offsite, and there would be no increase in occupational or public radiation exposure. Therefore, there are no significant radiological environmental impacts associated with granting the exemption request.

Granting the proposed schedular exemption would not affect non-radiological plant effluents and would have no other environmental impact. Therefore, there are no significant non-radiological impacts associated with the proposed action.

Environmental Impacts of the Alternatives to the Proposed Action

As stated above there are no significant environmental impacts from the proposed action. Therefore, the only alternative the NRC considered is the no-action alternative, under which the NRC would deny the exemption request. This denial of the request would require the licensee to implement the revised emergency preparedness requirements immediately. The facility currently poses an insignificant environmental impact risk due to the permanently shutdown status with fuel in the ISFSI. Therefore, imposing more emergency preparedness requirements to further limit environmental impact would not result in a significant change in current environmental impacts. The environmental impacts of the proposed action and the no-action alternative are therefore similar and the no-action alternative is accordingly not further considered.

Conclusion

The NRC has concluded that the proposed action will not significantly impact the quality of the human environment, and that the proposed action is the preferred alternative.

Agencies and Persons Consulted

The NRC contacted the California Radiologic Health Branch in the State Department of Health Services concerning this request. There were no comments, concerns or objections from the State official.

The NRC has determined that the proposed action is of a procedural nature, and will not affect listed species or critical habitat. Therefore, no further consultation is required under Section 7 of the Endangered Species Act of 1973, as amended (ESA), 16 U.S.C. 1536. The NRC has also determined that the proposed action is not the type of activity that has the potential to cause effects on historic properties. Therefore, no further consultation is required under Section 106 of the National Historic Preservation Act of 1966, as amended (NHPA), 16 U.S.C. 470.

III. Finding of No Significant Impact

The NRC has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application and supporting documentation, are available electronically at the NRC's Library at http://www.nrc.gov/reading-rm/adams.html. From this site, you can access ADAMS, which provides text and image files of NRC's public documents. The documents related to this action are listed below, along with their ADAMS accession numbers.

(1) Final rule, “Enhancements to Emergency Preparedness Regulations,” November 23, 2011. [76 FR 72560]

(2) Letter dated June 19, 2012, “Humboldt Bay Power Plant Unit 3 Request for Schedular Exemption for Implementation of Final Rule for Enhancements to Emergency Preparedness Regulations” [ADAMS Accession Number ML12187A235].

If you do not have access to ADAMS, or if there are problems in accessing the documents located in ADAMS, contact the NRC Public Document Room (PDR) Reference staff at 1-800-397-4209, 301-415-4737, or by email to pdr.resource@nrc.gov. These documents may also be viewed electronically on the public computers located at the NRC's PDR, O1-F21, One White Flint North, 11555 Rockville Pike, Rockville, MD 20852. The PDR reproduction contractor will copy documents for a fee.

Dated at Rockville, Maryland, this 20th day of November, 2012.
For the Nuclear Regulatory Commission.
Larry W. Camper,
Director, Division of Waste Management and Environmental Protection, Office of Federal and State Materials and Environmental Management Programs.

[FR Doc. 2012-28888 Filed 11-28-12; 8:45 am]

BILLING CODE 7590-01-P